DEPARTMENT OF TRANSPORTATION

Federal Aviation Administration

Notice of Opportunity for Public Comment on Future Surplus Property Release at Jack Edwards Airport, Gulf Shores, AL

AGENCY: Federal Aviation Administration (FAA), DOT.

ACTION: Notice of intent to rule on land release request.

SUMMARY: Under the provisions of Title 49, U.S.C. Section 47153(c), notice is being given that the FAA is considering a request from the City of Gulf Shores to release for future sale to commercial and industrial users five parcels totaling 87.76 acres of surplus property located at the Java Edwards Airport.

DATES: Comments must be received on or before July 29, 2002.

ADDRESSES: Comments on this notice may be mailed or delivered in triplicate to the FAA at the following address: Jackson Airports District Office, 100 West Cross Street, Suite B, Jackson, MS 39208-2307.

In addition, one copy of any comments submitted to the FAA must be mailed or delivered to The Honorable David L. Bodenhamer, Mayor of Gulf Shores, Alabama at the following address: P.O. Box 299, Gulf Shores, AL 36547-0299.

FOR FURTHER INFORMATION CONTACT: William Schuller, Program Manager, Jackson Airports District Office, 100 West Cross Street, Suite B, Jackson, MS 39208-2307, (601) 664-9883. The land release request may be reviewed in person at this same location.

SUPPLEMENTARY INFORMATION: The FAA is reviewing a request by City of Gulf Shores, AL to allow future releases on a lot or parcel basis of up to 87.76 acres of surplus property at the Jack Edwards Airport. The property will be held by the Gulf Shores Airport Authority and sold in part or in whole to commercial or industrial users for fair market value. The property is located in the industrial park where other businesses have already located. The net proceeds from the sale of each lot or parcel of property will be used for airport projects approved by the FAA.

Any person may inspect the request in person at the FAA office listed above under FOR FURTHER INFORMATION CONTACT. In addition, any person may, upon request. inspect the request, notice and other documents germane to the request in person at the City Hall, City of Gulf Shores, Alabama.

Issued in Jackson, Mississippi on June 19, 2002.
Wayne Atkinson,
Manager, Jackson Airports District Office, Southern Region.

[FR Doc. 02-16391 Filed 6-27-02; 8:45 am]

BILLING CODE 4910-13-M